DEPARTMENT OF LABOR

Employment and Training Administration

[TA-W-57,194]

Hampden Corporation, Chicago, IL; Notice of Termination of Investigation

Pursuant to Section 221 of the Trade Act of 1974, as amended, an investigation was initiated on May 17, 2005 in response to a petition filed by a company official on behalf of workers at Hampden Corporation, Chicago, Illinois.

The petitioner has requested that the petition be withdrawn. Consequently, the investigation has been terminated.

Signed at Washington, DC, this 3rd day of June, 2005.
Linda G. Poole,
Certifying Officer, Division of Trade Adjustment Assistance.

[FR Doc. E5-3232 Filed 6-21-05; 8:45 am]

BILLING CODE 4510-30-P